DEPARTMENT OF COMMERCE

National Oceanic and Atmospheric Administration

RIN 0648-XF050

New England Fishery Management Council; Public Meeting

AGENCY: National Marine Fisheries Service (NMFS), National Oceanic and Atmospheric Administration (NOAA), Commerce.

ACTION: Notice; public meeting.

SUMMARY: The New England Fishery Management Council (Council), Atlantic Herring Committee, Atlantic Herring Advisory Panel and Atlantic Herring Plan Development Team is scheduling a public workshop on the Atlantic Herring Acceptable Biological Catch Control Rule Management Strategy Evaluation to consider actions affecting New England fisheries in the exclusive economic zone (EEZ). Recommendations from this group will be brought to the full Council for formal consideration and action, if appropriate.

DATES: This workshop will be held on Wednesday, December 7, 2016 at 9 a.m. and Thursday, December 8, 2016 at 8:30 a.m.

ADDRESSES: The workshop will be held at the Sheraton Harborside Hotel, 250 Market Street, Portsmouth, ME 03801; phone: (888) 627-7138; fax: (603) 431-7805.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Introduction

The New England Fishery Management Council is currently developing Amendment 8 to the Atlantic Herring Fishery Management Plan. Through Amendment 8, the Council expects to establish a long-term control rule for the acceptable biological catch (ABC) of Atlantic herring that may explicitly account for herring's role in the ecosystem and address the biological and ecological requirements of the Atlantic herring resource. A control rule is a method for establishing an annual catch limit or target fishing level based on scientific information. A long-term control rule is needed to provide guidance on setting an annual ABC to account for scientific uncertainty, stock status, and the Council's risk tolerance to maintain a sustainable Atlantic herring stock that includes consideration of herring as a forage species.

In January 2016, the Council approved conducting a Management Strategy Evaluation (MSE) to support the development of alternatives for an ABC control rule. MSE is a collaborative decision-making process involving more public input and technical analysis than the normal amendment development process. The MSE will help determine how a range of control rules may perform relative to potential objectives.

The Council held an initial public workshop in May 2016 to develop recommendations for a range of potential objectives of the ABC control rule, how progress towards these objectives may be measured, and the control rules to test. In June 2016, after reviewing the workshop recommendations and additional input from the Herring Plan Development Team, Advisory Panel, and Committee, the Council approved moving forward with the MSE. Technical work has been underway ever since.

Workshop Purpose

The purpose of this workshop is to provide continued opportunities for public input on the Management Strategy Evaluation of Atlantic herring ABC control rules.

Workshop Goals

The Council is holding this workshop to: Develop a common understanding of the outcomes of the MSE technical simulations, which tested the performance of a range of ABC control rules relative to potential objectives, identified at the May 2016 public workshop and approved by the Council in June. The workshop also aims to get input from stakeholders on: Identifying acceptable ranges of performance for various metrics, so that tradeoffs in achieving objectives may be identified; narrowing the range of Atlantic herring ABC control rule alternatives to consider in more detail; and what, if any, additional (minor) MSE simulation work would be helpful for establishing a long-term ABC control rule. Finally, the workshop will provide a chance for stakeholders of the Atlantic herring fishery to have greater input than typically possible at Council meetings, through constructive and open dialogue among resource users, scientists, fishery managers, and members of the public.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: November 16, 2016.
Tracey L. Thompson,
Acting Deputy Director, Office of Sustainable Fisheries, National Marine Fisheries Service.

[FR Doc. 2016-27974 Filed 11-18-16; 8:45 am]

BILLING CODE 3510-22-P